DEPARTMENT OF LABOR

Employment and Training Administration

[TA-W-61,601]

Intel Corporation, Fab 23; Colorado Springs, CO; Notice of Affirmative Determination Regarding Application for Reconsideration

By letter dated July 14, 2007, a worker requested administrative reconsideration of the Department's Notice of Negative Determination Regarding Eligibility to Apply for Worker Adjustment Assistance, applicable to workers and former workers of the subject firm. The negative determination was issued on June 15, 2007. The Department's Notice of determination was published in the Federal Register on June 28, 2007 (72 FR 35517). Workers produce silicon wafers.

The negative determination was based on the Department's findings that, during the relevant period, the subject firm's sales and production of silicon wafers increased, and the subject firm did not import or shift production of silicon wafers abroad.

A careful review of the administrative record shows that the subject firm increased production in order to create an inventory to satisfy existing customer orders in light of the scheduled plant closure in August 2007.

In the request for reconsideration, the worker alleged that the Department misidentified the article produced at the subject firm and that foreign-produced articles have replaced domestic production.

The Department has carefully reviewed the administrative record and the request for reconsideration, and has determined that the Department will conduct further investigation.

Conclusion

After careful review of the application, I conclude that the claim is of sufficient weight to justify reconsideration of the U.S. Department of Labor's prior decision. The application is, therefore, granted.

Signed at Washington, DC, this 22nd day of August 2007.
Elliott S. Kushner,
Certifying Officer, Division of Trade Adjustment Assistance.

[FR Doc. E7-17045 Filed 8-28-07; 8:45 am]

BILLING CODE 4510-FN-P